DEPARTMENT OF AGRICULTURE

Agricultural Marketing Service

7 CFR Part 205

[Doc. No. AMS-NOP-24-0024]

National Organic Program: 2025 Sunset Review and Substance Renewals

AGENCY: Agricultural Marketing Service, USDA.

ACTION: 2025 sunset review and substance renewals.

SUMMARY: This document announces the renewal of 47 substances listed on the National List of Allowed and Prohibited Substances within the U.S. Department of Agriculture's organic regulations. This document reflects the outcome of the 2025 sunset review processes and addresses recommendations submitted to the Secretary of Agriculture, through the USDA's Agricultural Marketing Service, by the National Organic Standards Board.

DATES: Applicable June 22, 2025.

FOR FURTHER INFORMATION CONTACT: Jared Clark, National List Manager, Standards Division, National Organic Program, Phone: (202) 720-3252; Email: jared.clark@usda.gov.

SUPPLEMENTARY INFORMATION:

Background

On December 21, 2000, the Secretary established the Agricultural Marketing Service's (AMS) National Organic Program (NOP) and the USDA organic regulations (65 FR 80548, December 21, 2000). Within the USDA organic regulations (7 CFR part 205) is the National List of Allowed and Prohibited Substances (or “National List”). The National List identifies the synthetic substances that may be used and the nonsynthetic (natural) substances that may not be used in organic crop and livestock production. It also identifies the nonorganic substances that may be used in or on processed organic products.

The Organic Foods Production Act of 1990 (OFPA), as amended (7 U.S.C. chapter 94), and the USDA organic regulations specifically prohibit the use of any synthetic substance in organic production and handling unless the synthetic substance is on the National List (7 CFR 205.601, 205.603 and 205.605(b)). Section 205.105 also requires that any nonorganic agricultural substance and any nonsynthetic nonagricultural substance used in organic handling be on the National List (§§ 205.605(a) and 205.606).

The OFPA at 7 U.S.C. 6518 authorizes the National Organic Standards Board (“NOSB” or “Board”), operating in accordance with the Federal Advisory Committee Act (section 1 et seq., 5 U.S.C. App. 2), to evaluate substances for organic production and handling and to advise the Secretary on the USDA organic regulations. The OFPA “sunset provision” (7 U.S.C. 6517(e)) requires review of all substances included on the National List within 5 years of their addition to, or renewal on, the list. A list of all National List sunset dates is posted online for public access in the “NOSB Work Agenda” document on the NOP's NOSB web page, https://www.ams.usda.gov/rules-regulations/organic/nosb.

As required by the OFPA, during a sunset review, the NOSB considers any new information about a substance's impact on human health and the environment, its necessity, and its consistency with organic production and handling. The NOSB then votes on proposals to remove individual substances from the National List, with a ⅔ majority needed to recommend removal of a substance.

As delegated by the Secretary, AMS evaluates the NOSB's reviews and recommendations for compliance with the National List substance evaluation criteria in the OFPA at 7 U.S.C. 6518(m) and other federal statutes or regulations. AMS also considers public comments submitted in association with the sunset review process, as described in the notice published on September 16, 2013 (78 FR 56811).

Review of Sunset Substances

AMS published notices in the Federal Register announcing the Spring 2023 (88 FR 9426, February 14, 2023) and Fall 2023 (88 FR 37505, June 08, 2023) NOSB meetings and invited public comments on the 2025 sunset review of the substances included in the tables below. AMS also hosted public webinars prior to these NOSB meetings to provide additional opportunities for public comment. At these public meetings, the NOSB reviewed substances scheduled to sunset from the National List and recommended that they either be removed or remain on the National List.

AMS has reviewed and accepted all NOSB sunset review recommendations for substances with sunset dates in 2025. AMS is renewing the listings of these substances until 2030. AMS determined that the substance allowances listed in this notice are still necessary because of the unavailability of organic forms or wholly natural substitutes for the specified uses (7 U.S.C. 6517(c)(1)(A)(ii)). The renewal of these substances will avoid potential disruptions to the organic industry that may otherwise result from removal from the National List. AMS also has determined that the prohibited natural substances listed in this notice should remain prohibited because their use remains inconsistent with organic production (7 U.S.C. 6517(c)(2)(A)(ii)).

Sunset Renewals

This document renews 46 of the 47 substances in this notice for another 5 years past their existing sunset date of June 22, 2025.

One of the forty-seven substances renewed in this notice currently has an existing sunset date of December 7, 2025. This notice renews tamarind seed gum another 4 years and 6-1/2 months past its existing sunset date of December 7, 2025, to establish a new sunset date for this substance that matches the sunset dates of the other substances renewed in this notice.

This document establishes a new sunset date for the following substances as outlined in the header for table 1.

Table 1—National List Substances Renewed Until June 22, 2030
Citation | Substance
7 CFR 205.601 Synthetic substances allowed for use in organic crop production:
§ 205.601(a)(1)(i) | Ethanol.
§ 205.601(a)(1)(ii) | Isopropanol.
§ 205.601(a)(8) | Sodium carbonate peroxyhydrate (CAS #-15630-89-4)—Federal law restricts the use of this substance in food crop production to approved food uses identified on the product label.
§ 205.601(b)(2)(i) | Newspaper or other recycled paper, without glossy or colored inks.
§ 205.601(b)(2)(ii) | Plastic mulch and covers (petroleum-based other than polyvinyl chloride (PVC)).
§ 205.601(c) | As compost feedstocks—Newspapers or other recycled paper, without glossy or colored inks.
§ 205.601(e)(2) | Aqueous potassium silicate (CAS #1312-76-1)—the silica, used in the manufacture of potassium silicate, must be sourced from naturally occurring sand.
§ 205.601(e)(5) | Elemental sulfur.
§ 205.601(e)(6) | Lime sulfur—including calcium polysulfide.
§ 205.601(i)(1) | Aqueous potassium silicate (CAS #1312-76-1)—the silica, used in the manufacture of potassium silicate, must be sourced from naturally occurring sand.
§ 205.601(i)(4) | Hydrated lime.
§ 205.601(i)(6) | Lime sulfur.
§ 205.601(i)(10) | Elemental sulfur.
§ 205.601(j)(2) | Elemental sulfur.
§ 205.601(j)(8) | Liquid fish products—can be pH adjusted with sulfuric, citric or phosphoric acid. The amount of acid used shall not exceed the minimum needed to lower the pH to 3.5.
§ 205.601(j)(11) | Sulfurous acid (CAS #7782-99-2) for on-farm generation of substance utilizing 99% purity elemental sulfur per paragraph (j)(2) of this section.
§ 205.601(k)(1) | Ethylene gas—for regulation of pineapple flowering.
§ 205.601(o)(1) | Microcrystalline cheesewax (CAS #'s 64742-42-3, 8009-03-08, and 8002-74-2)—for use in log grown mushroom production. Must be made without either ethylene-propylene co-polymer or synthetic colors.
7 CFR 205.602 Nonsynthetic substances prohibited for use in organic crop production:
§ 205.602(e) | Potassium chloride—unless derived from a mined source and applied in a manner that minimizes chloride accumulation in the soil.
7 CFR 205.603 Synthetic substances allowed for use in organic livestock production:
§ 205.603(a)(1)(i) | Ethanol—disinfectant and sanitizer only, prohibited as a feed additive.
§ 205.603(a)(1)(ii) | Isopropanol-disinfectant only.
§ 205.603(a)(2) | Aspirin-approved for health care use to reduce inflammation.
§ 205.603(a)(4) | Biologics—Vaccines.
§ 205.603(a)(11) | Electrolytes—without antibiotics.
§ 205.603(a)(14) | Glycerin—allowed as a livestock teat dip, must be produced through the hydrolysis of fats or oils.
§ 205.603(a)(25) | Phosphoric acid—allowed as an equipment cleaner, Provided, That, no direct contact with organically managed livestock or land occurs.
§ 205.603(b)(6) | Lime, hydrated—as an external pest control, not permitted to cauterize physical alterations or deodorize animal wastes.
§ 205.603(b)(7) | Mineral oil—for topical use and as a lubricant.
7 CFR 205.605 Nonagricultural (nonorganic) substances allowed as ingredients in or on processed products labeled as “organic” or “made with organic (specified ingredients or food group(s))”:
§ 205.605(a)(6) | Calcium carbonate.
§ 205.605(a)(12) | Flavors—nonsynthetic flavors may be used when organic flavors are not commercially available. All flavors must be derived from organic or nonsynthetic sources only and must not be produced using synthetic solvents and carrier systems or any artificial preservative.
§ 205.605(a)(13) | Gellan gum (CAS #71010-52-1)—high-acyl form only.
§ 205.605(a)(21) | Oxygen—oil-free grades.
§ 205.605(a)(23) | Potassium chloride.
§ 205.605(b)(3) | Alginates.
§ 205.605(b)(8) | Calcium hydroxide.
§ 205.605(b)(14) | Ethylene—allowed for postharvest ripening of tropical fruit and degreening of citrus.
§ 205.605(b)(16) | Glycerides (mono and di)—for use only in drum drying of food.
§ 205.605(b)(19) | Magnesium stearate—for use only in agricultural products labeled “made with organic (specified ingredients or food group(s)),” prohibited in agricultural products labeled “organic”.
§ 205.605(b)(23) | Phosphoric acid—cleaning of food-contact surfaces and equipment only.
§ 205.605(b)(24) | Potassium carbonate.
§ 205.605(b)(35) | Sulfur dioxide—for use only in wine labeled “made with organic grapes,” Provided, That, total sulfite concentration does not exceed 100 ppm.
§ 205.605(b)(37) | Xanthan gum.
7 CFR 205.606 Nonorganically produced agricultural products allowed as ingredients in or on processed products labeled as “organic.”:
§ 205.606(g) | Fructooligosaccharides (CAS #308066-66-2).
§ 205.606(j) | Gums—water extracted only (Arabic; Guar; Locust bean; and Carob bean).
§ 205.606(l) | Lecithin—de-oiled.
§ 205.606(r) | Tamarind seed gum.
§ 205.606(s) | Tragacanth gum (CAS #-9000-65-1).

Authority: 7 U.S.C. chapter 94.

Erin Morris,
Associate Administrator, Agricultural Marketing Service.

[FR Doc. 2024-17378 Filed 8-7-24; 8:45 am]

BILLING CODE P